DEPARTMENT OF AGRICULTURE

Office of the Secretary

Forestry Research Advisory Council

AGENCY: Forest Service, USDA.

ACTION: Notice of intent to re-establish an advisory council and call for nominations

SUMMARY: The Department of Agriculture intends to re-establish the Forestry Research Advisory Council (Council). In accordance with provisions of Section 1441(c) of the Agriculture and Food Act of 1981 (Pub. L. 97-98), and the Federal Advisory Committee Act (FACA), (5 U.S.C. App. 2), the Council is being re-established to provide advice to the Secretary of Agriculture on accomplishing efficiently the purposes of the Act of October 10, 1962 (16 U.S.C. 582a, et seq.), commonly known as the McIntire-Stennis Act of 1962. The Council also provides advice relative to the Forest Service research program, authorized by the Forest and Rangeland Renewable Resources Research Act of 1978 (Pub. L. 95-307, 92 Stat.353, as amended; 16 U.S.C. 1600 (note)). Therefore, the Secretary of Agriculture is seeking nominations to fill six vacancies on the Council, and five additional vacancies that will occur when current appointments expire in December 2013.

DATES: Written nominations must be received by April 29, 2013. Nominations must contain a completed application packet that includes the nominee's name, resume, and completed form AD-755 (Advisory Committee Membership Background Information). The package must be sent to the address below.

ADDRESSES: Daina Dravnieks Apple, USDA Forest Service, Office of the Deputy Chief, Research and Devlopment, 1601 North Kent Street, 4th Floor, Arlington, Virginia 22209 by express mail or overnight courier service. If sent via the U.S. Postal Service, they must be sent to the following address: U.S. Department of Agriculture, Forest Service, Office of the Deputy Chief, Research and Development, Mail Stop 1120, 1400 Independence Avenue SW., Washington, DC 20250-1120.

FOR FURTHER INFORMATION CONTACT: Daina Dravnieks Apple, USDA Forest Service, Office of the Deputy Chief, Research and Devlopment, Telephone: (202) 205-1665, Email: dapple@fs.fed.us. Individuals who use telecommunication devices for the deaf (TDD) may call the Federal Information Relay Service (FIRS) at 1-800-877-8339 between 8 a.m. and 5 p.m., Eastern Standard Time, Monday through Friday.

SUPPLEMENTARY INFORMATION:

Background

In accordance with the provisions of the Federal Advisory Committee Act (FACA), as amended (5 U.S.C. App. 2), the Secretary of Agriculture intends to re-establish the Forestry Research Advisory Council (FRAC). The Council, a statutory committee, will continue to advise the Secretary of Agriculture on regional and national research planning and coordination of forestry research within the Federal and State agencies, forestry schools, forest industries, and non-governmental organizations. The Council may fulfill its responsibility to consult on a periodic or regular basis on apportionment of funds.

Advisory Council Organization

The Council will be comprised of not more than 20 members. The members appointed to the Council will be fairly balanced in terms of the points of view represented, functions to be performed, and will represent a broad array of expertise, leadership and relevancy to a membership category. Geographic balance and a balanced distribution among the categories are also important. The Council shall include five representatives each in the following categories: (1) Federal and State Agencies; (2) Industry; (3) Academic; and (4) Voluntary Organization. The Council members will serve staggered terms up to 3 years, and will meet annually, or as often as necessary and at such times as designated by the Designated Federal Officer (DFO). No individual who is currently registered as a Federal lobbyist is eligible to serve as a member of the Council.

The appointment of members to the Council will be made by the Secretary of Agriculture. Vacancies on the Council will be filled in the manner in which the original appointment was made. Any individual or organization may nominate one or more qualified persons to serve on the Council. Individuals may also nominate themselves. Nominations for one individual who fits several of the categories or for more than one person who fits one category will be accepted. To be considered for membership, nominees must submit a:

1. Resume describing qualifications for membership to the Council;

2. Cover letter with a rationale for serving on the Council and what you can contribute;

3. Indication of the specific membership category of your interest; and

4. Complete form AD-755, Advisory Committee Membership Background Information. The form AD-755 may be obtained from the Forest Service contact person or from the following Web site: http://www.usda.gov/documents/OCIO_AD_755_Master_2012.pdf.

5. Letters of recommendations are welcome.

All nominations will be vetted by USDA. Nominations are open to all individuals without regard for race, color, religion, sex, national origin, age, mental or physical handicap, marital status, or sexual orientation. Nominations are being solicited from universities, organizations, associations, societies, councils, federations, groups, and companies that represent a wide variety of forestry research interests throughout the country. Members of the Council will serve without compensation, but may be reimbursed for travel expenses while performing duties on behalf of the Council, subject to approval by the DFO. A meeting notice will be published in the Federal Register 15 to 45 days before a scheduled meeting date. All meetings are generally open to the public and may include a “public forum” that may offer 5-10 minutes for participants to present comments to the advisory committee. The Chairperson of the given Council ultimately makes the decision whether to offer time on the agenda for the public to speak to the general body.

Equal opportunity practices, in line with USDA policies, will be followed in all appointments to the advisory committee. To ensure that the recommendations of the FRAC have taken into account the needs of diverse groups served by the Department, membership will, to the extent practicable, include individuals with demonstrated ability to represent minorities, women, and persons with disabilities.

Dated: February 20, 2012.
Gregory Parham,
Acting Assistant Secretary for Administration.

[FR Doc. 2013-05739 Filed 3-12-13; 8:45 am]

BILLING CODE 3410-11-P